DEPARTMENT OF TRANSPORTATION

Federal Aviation Administration

14 CFR Part 73

[Docket No. FAA-2013-0838; Airspace Docket No. 12-AGL-17]

Modification of Restricted Areas R-6901A & R-6901B; Fort McCoy, WI

AGENCY: Federal Aviation Administration (FAA), DOT.

ACTION: Final rule, technical amendment.

SUMMARY: This action amends Restricted Areas R-6901A and R-6901B, Fort McCoy, WI, to accurately identify the segment of Wisconsin State Highway 21 used to identify the shared boundary between the restricted areas. The geographic coordinates contained in the existing legal descriptions for defining the highway actually plot south of it. This is an administrative correction to accurately define the geographic coordinates where the restricted area boundaries intercept Wisconsin State Highway 21 and does not affect the overall restricted area boundaries; designated altitudes; times of designation; or activities conducted within the restricted areas.

DATES: Effective date 0901 UTC, December 12, 2013.

FOR FURTHER INFORMATION CONTACT: Colby Abbott, Airspace Policy and ATC Procedures Group, Office of Airspace Services, Federal Aviation Administration, 800 Independence Avenue SW., Washington, DC 20591; telephone: (202) 267-8783.

SUPPLEMENTARY INFORMATION:

History

In December 1986, the FAA published a rule in the Federal Register (51 FR 44597, December 11, 1986) modifying the boundaries and time of designation of the existing R-6901, Fort McCoy, WI, deleting the southwest corner of the restricted area to remove McCoy Army Airfield from restricted airspace and subdivide the remaining area into two separate restricted areas. The rule also reduced the times of designation of the new restricted areas to more accurately depict actual use and make the airspace available for public access when it is not required by the using agency. Restricted area R-6901 was subdivided into two separate areas, R-6901A and R-6901B, along a line where Wisconsin State Highway 21 crossed the area. Unfortunately, the geographic coordinate references in the legal description describing where the restricted area boundaries intercept the highway lie south of the actual location of the highway.

The Rule

The FAA is amending 14 CFR part 73 to amend restricted areas R-6901A and R-6901B at Fort McCoy, WI. This action corrects the geographic coordinates in the legal description boundary information to accurately reflect where the boundary actually intercepts Wisconsin State Highway 21. The correct geographic coordinates for identifying where the R-6901A boundary intercepts Wisconsin State Highway 21 are “lat. 44°00′28″ N., long. 90°36′41″ W.” and “lat. 44°00′27″ N., long. 90°38′45″ W.” The correct geographic coordinates for identifying where the R-6901B boundary intercepts Wisconsin State Highway 21 are “lat. 43°59′58″ N., long. 90°43′10″ W.” and “lat. 44°00′28″ N., long. 90°36′41″ W.”

This action also inserts an additional geographic coordinate to the eastern boundary of R-6901B to retain a shared boundary with the Volk South Military Operations Area. The FAA is taking this action to accurately define the geographic coordinates where the restricted area boundaries intercept Wisconsin State Highway 21, which is then used as a visual landmark describing the shared boundary between the two restricted areas, and is in concert with the FAA's aeronautical database.

This is as administrative change to update the geographic (latitude/longitude) coordinates accurately reflecting where the boundaries intercept Wisconsin State Highway 21. It does not affect the boundaries, designated altitudes, or activities conducted within the restricted areas; therefore, notice and public procedure under 5 U.S.C. 553(b) are unnecessary.

The FAA has determined that this regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it makes an administrative change to the descriptions of Restricted Areas R-6901A and R-6901B, Fort McCoy, WI.

Environmental Review

The FAA has determined that this action qualifies for categorical exclusion under the National Environmental Policy Act in accordance with FAA Order 1050.1E, Environmental Impacts: Policies and Procedures, paragraph 311d. This airspace action is an administrative change to the descriptions of the affected restricted areas which corrects the geographic coordinates defining a segment of a state highway forming the shared boundary between the restricted areas. It does not alter the dimensions, altitudes, or times of designation of the airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.69 [Amended]

2. Section 73.69 is amended as follows:

R-6901A Fort McCoy, WI [Amended]

By removing the current boundaries description and substituting the following:

Boundaries. Beginning at lat. 44°08′40″ N., long. 90°44′20″ W.; to lat. 44°08′40″ N., long. 90°40′22″ W.; to lat. 44°09′36″ N., long. 90°40′22″ W.; to lat. 44°09′36″ N., long. 90°36′50″ W.; to lat. 44°00′28″ N., long. 90°36′41″ W.; then West along Wisconsin State Highway 21; to lat. 44°00′27″ N., long. 90°38′45″ W.; to lat. 44°01′45″ N., long. 90°44′31″ W.; to the point of beginning.

R-6901B Fort McCoy, WI [Amended]

By removing the current boundaries description and substituting the following:

Boundaries. Beginning at lat. 43°59′58″ N., long. 90°43′10″ W.; then East along Wisconsin State Highway 21; to lat. 44°00′28″ N., long. 90°36′41″ W.; to lat. 44°00′10″ N., long. 90°36′41″ W.; to lat. 44°00′02″ N., long. 90°36′35″ W.; to lat. 44°00′02″ N., long. 90°35′15″ W.; to lat. 43°56′22″ N., long. 90°35′22″ W.; to lat. 43°56′22″ N., long. 90°39′00″ W.; to lat. 43°56′38″ N., long. 90°41′00″ W.; to lat. 43°56′44″ N., long. 90°43′17″ W.; to the point of beginning.

* * * * *

Issued in Washington, DC on October 21, 2013.
Gary A. Norek,
Manager, Airspace Policy and ATC Procedures Group.

[FR Doc. 2013-25203 Filed 10-24-13; 8:45 am]

BILLING CODE 4910-13-P